ENVIRONMENTAL PROTECTION AGENCY

[FRL-6700-8]

Agency Information Collection Activities; Submission of EPA ICR No. 1911.01 to OMB for Review and Approval

AGENCY: Environmental Protection Agency (EPA).

ACTION: Notice of submission to OMB.

SUMMARY: In compliance with the Paperwork Reduction Act (44 U.S.C. 3501 et seq.), this notice announces that the Information Collection Request (ICR) entitled: Data Acquisition for Anticipated Residue and Percent of Crop Treated (EPA ICR No. 1911.01), has been forwarded to the Office of Management and Budget (OMB) for review and approval pursuant to the OMB procedures in 5 CFR 1320.12. The ICR, which is abstracted below, describes the nature of the information collection and its estimated cost and burden. The Agency is requesting that OMB approve this new ICR for a three year period. A Federal Register notice announcing the Agency's intent to seek OMB approval for this new ICR and a 60-day public comment opportunity, requesting comments on the request and the contents of the ICR, was issued on August 4, 1999 (64 FR 42362). EPA did not receive any comments on this ICR during the comment period.

DATES: Additional comments may be submitted on or before June 16, 2000.

FOR FURTHER INFORMATION OR A COPY CONTACT: Sandy Farmer by phone at 202-260-2740, or via e-mail at “farmer.sandy@epa.gov”, or download a copy of the ICR off the Internet at http://www.epa.gov/icr. Please refer to EPA ICR No. 1911.01.

ADDRESSES: Send comments, referencing EPA ICR No. 1911.01, to the following addresses:

Ms Sandy Farmer, U.S. Environmental Protection Agency, Office of Environmental Information, Collection Strategies Division (2822), 1200 Pennsylvania Avenue, N.W., Washington, DC 20460; and to:

Office of Information and Regulatory Affairs, Office of Management and Budget (OMB), Attention: Desk Officer for EPA, 725 17th Street, N.W., Washington, DC 20503.

SUPPLEMENTARY INFORMATION: Title: Data Acquisition for Anticipated Residue and Percent of Crop Treated.

Abstract: Under this ICR, EPA will issue a DCI to affected registrants under the authority of FIFRA section 3(c)(2)(B). Currently, there are two main categories of applications subject to this collection: those requiring submission of a full complement of supporting data, (e.g., new chemicals, and biorationals); and those requiring submission of little or no data, (e.g., “me-too” products) for previously registered chemicals and use patterns. Applicants for a “me-too” product (i.e., a pesticide claimed to be substantially similar in composition and use to a product previously registered by the EPA) may be required only to use EPA Form 8570-34 (“Certification with Respect to Citation of Data”) and EPA Form 8570-35 (“Data Matrix”) to certify that the applicant intends to rely on data previously submitted to the EPA by another producer, the applicant has contacted the appropriate company (owning the data that the applicant is referencing), and the applicant has offered to pay reasonable compensation for the use of the data.

If EPA relies on ARs data when establishing or reassessing a tolerance, it must issue a DCI, and if the EPA used the percent of crop treated data estimates for a tolerance action, it may issue a DCI. A DCI is a letter sent to the registrant explaining the data submission requirement, requests specific data, sets out a time frame for a response to EPA, and provides applicable forms and guidelines to assist the registrant with the completion of the DCI request. A registrant must respond within 90 days of receipt of the DCI. The response must describe plans to submit the required data in accordance with time frame specified, and, if applicable, contain suggested protocols for monitoring studies. Failure to generate the requested data, or respond to the DCI in a timely manner could result in Agency action to modify or revoke the tolerance.

Burden Statement: The annual “respondent” burden for this ICR is estimated to range from 59 hours to 13,636 hours per response, depending on the type of DCI.

According to the Paperwork Reduction Act, “burden” means the total time, effort, or financial resources expended by persons to generate, maintain, retain, or disclose or provide information to or for a Federal agency. For this collection, it is the time reading the regulations, planning the necessary data collection activities, conducting tests, analyzing data, generating reports and completing other required paperwork, and storing, filing, and maintaining the data. The agency may not conduct or sponsor, and a person is not required to respond to, a collection of information unless it displays a currently valid OMB control number. The OMB control number for this information collection appear at the beginning and the end of this document. In addition OMB control numbers for EPA's regulations, after initial display in the final rule, are listed in 40 CFR part 9 and 48 CFR Chapter 15.

Respondents/Affected Entities: Pesticide registrants.

Estimated Number of Annual Respondents: 31.

Frequency of Response: Once. Five years after tolerance decision.

Estimated number of annual responses for each respondent: 1.

Estimated Total Annual Burden: 29,807 hours.

Estimated Total Annualized Burden Costs: $2,773,866.

Dated: May 10, 2000.
Oscar Morales,
Director, Collection Strategies Division.

[FR Doc. 00-12392 Filed 5-16-00; 8:45 am]

BILLING CODE 6560-50-P